DEPARTMENT OF ENERGY

Federal Energy Regulatory Commission

Combined Notice of Filings #1

January 31, 2007.

Take notice that the Commission received the following exempt wholesale generator filings:

Docket Numbers: EG07-35-000.

Applicants: Dillon Wind LLC.

Description: Dillon Wind LLC submits its notice of Self-Certification of Exempt Wholesale Generator Status.

Filed Date: 01/26/2007.

Accession Number: 20070130-0259.

Comment Date: 5 p.m. Eastern Time on Friday, February 16, 2007.

Take notice that the Commission received the following electric rate filings:

Docket Numbers: ER02-2339-002.

Applicants: Citadel Energy Products LLC.

Description: Citadel Energy Products LLC submits an amendment to its 7/28/05 updated market power analysis filing.

Filed Date: 01/26/2007.

Accession Number: 20070130-0077.

Comment Date: 5 p.m. Eastern Time on Friday, February 16, 2007.

Docket Numbers: ER07-113-001.

Applicants: Midwest Independent Transmission System Operator, Inc.

Description: Midwest ISO et al. submits proposed revisions to its Open Access Transmission and Energy Markets Tariff etc.

Filed Date: 01/29/2007.

Accession Number: 20070131-0017.

Comment Date: 5 p.m. Eastern Time on Tuesday, February 20, 2007.

Docket Numbers: ER07-343-001.

Applicants: Alcoa Power Generating Inc.

Description: Alcoa Power Generating Inc (APGI) on behalf of its Tapoco Division submits an amendment to the revised tariff sheets submitted on 12/20/06 to Electric Rate Schedules Nos. 4, 5, and 6, which is redesignated as APGI Rate Schedule No. 17.

Filed Date: 01/26/2007.

Accession Number: 20070130-0258.

Comment Date: 5 p.m. Eastern Time on Friday, February 16, 2007.

Docket Numbers: ER07-374-001.

Applicants: Buena Vista Energy, LLC.

Description: Buena Vista Energy, LLC notification of non-material change in status.

Filed Date: 01/29/2007.

Accession Number: 20070129-5047.

Comment Date: 5 p.m. Eastern Time on Tuesday, February 20, 2007.

Docket Numbers: ER07-474-000.

Applicants: New York Independent System Operator., Inc.

Description: New York Independent System Operator, Inc submits proposed revisions to its Market Administration and Control Area Services Tariff and its OATT.

Filed Date: 01/29/2007.

Accession Number: 20070131-0016.

Comment Date: 5 p.m. Eastern Time on Tuesday, February 20, 2007.

Docket Numbers: ER07-475-000.

Applicants: California Independent System Operator Corporation.

Description: California Independent System Operator Corp submits its long-term transmission rights.

Filed Date: 01/29/2007.

Accession Number: 20070131-0018.

Comment Date: 5 p.m. Eastern Time on Tuesday, February 20, 2007.

Docket Numbers: ER07-480-000.

Applicants: MidAmerican Energy Company.

Description: MidAmerican Energy Co submits an amended Network Integration Transmission Service Agreement and an amended Network Operating Agreement with the City of Geneseo, IL updated 1/16/07.

Filed Date: 01/30/2007.

Accession Number: 20070131-0028.

Comment Date: 5 p.m. Eastern Time on Tuesday, February 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-1924 Filed 2-6-07; 8:45 am]

BILLING CODE 6717-01-P